DEPARTMENT OF JUSTICE

[OMB Number 1110-0026]

Agency Information Collection Activities; Proposed eCollection eComments Requested; Revision of a Previously Approved Collection; Title—Federal Firearms Licensee (FFL) Enrollment/National Instant Criminal Background Check System (NICS) E-Check Enrollment Form, Federal Firearms Licensee (FFL) Officer/Employee Acknowledgment of Responsibilities Under the NICS Form, Responsibilities of a Federal Firearms Licensee (FFL) Under the National Instant Criminal Background Check System (NICS) Form

AGENCY: Department of Justice, Federal Bureau of Investigation, Criminal Justice Information Services Division.

ACTION: 60-Day notice.

SUMMARY: The Department of Justice (DOJ), Federal Bureau of Investigation (FBI), Criminal Justice Information Services (CJIS) Division, will be submitting the following information collection request to the Office of Management and Budget (OMB) for review and approval in accordance with the Paperwork Reduction Act of 1995.

DATES: Comments are encouraged and will be accepted for 60 days until September 22, 2025.

FOR FURTHER INFORMATION CONTACT: If you have additional comments especially on the estimated public burden or associated response time, suggestions, or need a copy of the proposed information collection instrument with instructions or additional information, please contact Jill Montgomery, FBI NICS Section, 1000 Custer Hollow Road, Clarksburg, WV 26306, or jamontgomery@fbi.gov, 304-709-1476.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Brady Handgun Violence Prevention Act of 1993 required the United States Attorney General to establish a National Instant Criminal Background Check System that any federal firearms licensee (FFL) may contact, by telephone or other electronic means, for information to be supplied immediately on whether receipt of a firearm by a prospective purchaser would violate State or Federal law. Information pertaining to FFLs who may contact the NICS is being collected to manage and control access to the NICS and to the NICS Electronic (E-Check), to ensure appropriate resources are available to support the NICS, and also to ensure the privacy and security of NICS information. More information can be obtained at https://www.fbi.gov/services/cjis/nics. The proposed 2025 revision to the form captures four new fields. The first two fields ask for the FFL's date of birth and mother's maiden name for security measures. An additional question is asked if an FFL operates in a point of contact (POC) state. If the FFL answers in the affirmative, the FFL is asked to initial to acknowledge use of the FBI NICS for authorized purposes only so they may avail themselves of the additional resources for FFLs from POC states as they become available.

Overview of This Information Collection

1. Type of Information Collection: Revision of a previously approved collection.

2. The Title of the Form/Collection: Federal Firearms Licensee (FFL) Enrollment/National Instant Criminal Background Check System (NICS) E-Check Enrollment Form, Federal Firearms Licensee (FFL) Officer/Employee Acknowledgment of Responsibilities under the NICS Form, Responsibilities of a Federal Firearms Licensee (FFL) under the National Instant Criminal Background Check System (NICS) Form.

3. The agency form number, if any, and the applicable component of the Department sponsoring the collection: Federal Firearms Licensee (FFL) Enrollment/NICS E-Check Enrollment Form.

4. Affected public who will be asked or required to respond, as well as the obligation to respond: Affected Public—Any FFL or Point of Contact (POC) state requesting access to conduct National Instant Criminal Background Check System (NICS) checks telephonically or by the internet through the NICS E-Check. The obligation to respond is required in order to required obtain/the ability to utilize the NICS system to conduct background checks.

5. An estimate of the total number of respondents and the amount of time estimated for an average respondent to respond: The entire process of reading the material and completing the forms would take 15 minutes per respondent. The average hour burden for completing the forms and reading the material would be 6,160 × 15/60 = 1,540 hours.

6. An estimate of the total annual burden (in hours) associated with the collection: The average hour burden for completing the forms and reading the material would be 6,160 × 15/60 = 1,540 hours.

7. An estimate of the total annual cost burden associated with the collection, if applicable: $0. Forms are available online and can be signed digitally. Copies and postage costs are no longer applicable.

Total Burden Hours
Activity | Number of respondents | Frequency (time) | Total annual responses | Time per response (min) | Total annual burden (hours)
Read and complete survey | 6,160 | 1 | 6,160 | 15 | 1,540
Unduplicated Totals | 6,160 | 1 | 6,160 | 15 | 1,540

If additional information is required contact: Darwin Arceo, Department Clearance Officer, United States Department of Justice, Justice Management Division, Policy and Planning Staff, Two Constitution Square, 145 N Street NE, 4W-218, Washington, DC.

Dated: July 22, 2025.
Darwin Arceo,
Department Clearance Officer for PRA, U.S. Department of Justice.

[FR Doc. 2025-13934 Filed 7-23-25; 8:45 am]

BILLING CODE 4410-02-P